DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of all current and projected rulemakings, existing regulations, and completed actions of the Department of Homeland Security (DHS) and its components. This agenda provides the public with information about DHS's regulatory activity. DHS expects that this information will enable the public to be more aware of, and effectively participate in, the Department's regulatory activity. DHS invites the public to submit comments on any aspect of this agenda.

FOR FURTHER INFORMATION CONTACT:

General

Please direct general comments and inquiries on the agenda to the Regulatory Affairs Law Division, U.S. Department of Homeland Security, Office of the General Counsel, 245 Murray Lane, Mail Stop 0485, Washington, DC 20528-0485.

Specific

Please direct specific comments and inquiries on individual regulatory actions identified in this agenda to the individual listed in the summary of the regulation as the point of contact for that regulation.

SUPPLEMENTARY INFORMATION: DHS provides this notice pursuant to the requirements of the Regulatory Flexibility Act (Pub. L. 96-354, Sep. 19, 1980) and Executive Order 12866 “Regulatory Planning and Review” (Sep. 30, 1993) as incorporated in Executive Order 13563 “Improving Regulation & Regulatory Review” (Jan. 18, 2011), which require the Department to publish a semiannual agenda of regulations. The regulatory agenda is a summary of all current and projected rulemakings, as well as actions completed since the publication of the last regulatory agenda for the Department. DHS's last semiannual regulatory agenda was published on February 13, 2012, at 77 FR 7960.

Beginning in fall 2007, the Internet became the basic means for disseminating the Unified Agenda. The complete Unified Agenda is available online at www.reginfo.gov.

As part of the Unified Agenda, Federal agencies are also required to prepare a Regulatory Plan of the most important significant regulatory actions that the agency reasonably expects to issue in proposed or final form in that fiscal year. As in past years, for fall editions of the Unified Agenda, the entire Regulatory Plan and agency regulatory flexibility agendas, in accordance with the publication requirements of the Regulatory Flexibility Act, are printed in the Federal Register.

The Regulatory Flexibility Act (5 U.S.C. 602) requires Federal agencies to publish their regulatory flexibility agenda in the Federal Register. A regulatory flexibility agenda shall contain, among other things, “a brief description of the subject area of any rule which is likely to have a significant economic impact on a substantial number of small entities.” DHS's printed agenda entries include regulatory actions that are in the Department's regulatory flexibility agenda. Printing of these entries is limited to fields that contain information required by the agenda provisions of the Regulatory Flexibility Act. Additional information on these entries is available in the Unified Agenda published on the Internet.

The semiannual agenda of the Department conforms to the Unified Agenda format developed by the Regulatory Information Service Center.

Dated: October 19, 2012.
Christina E. McDonald,
Associate General Counsel for Regulatory Affairs.

Office of the Secretary—Long-Term Actions
Sequence No. | Title | Regulation Identifier No.
307 | Ammonium Nitrate Security Program | 1601-AA52
308 | Homeland Security Acquisition Regulation, Subcontractor Labor Hour Rates Under Time and Materials Contracts | 1601-AA65

U.S. Citizenship and Immigration Services—Proposed Rule Stage
Sequence No. | Title | Regulation Identifier No.
309 | Administrative Appeals Office: Procedural Reforms To Improve Efficiency | 1615-AB98

U.S. Citizenship and Immigration Services—Long-Term Actions
Sequence No. | Title | Regulation Identifier No.
310 | Registration Requirement for Petitioners Seeking To File H-1B Petitions on Behalf of Aliens Subject to Numerical Limitations | 1615-AB71

U.S. Coast Guard—Proposed Rule Stage
Sequence No. | Title | Regulation Identifier No.
311 | Numbering of Undocumented Barges | 1625-AA14
312 | Updates to Maritime Security | 1625-AB38
313 | Lifesaving Devices on Uninspected Vessels (Section 610 Review) | 1625-AB83

U.S. Coast Guard—Final Rule Stage
Sequence No. | Title | Regulation Identifier No.
314 | Implementation of the 1995 Amendments to the International Convention on Standards of Training, Certification, and Watchkeeping (STCW) for Seafarers, 1978 (Reg Plan Seq No. 59) | 1625-AA16
315 | Commercial Fishing Industry Vessels | 1625-AA77
316 | Nontank Vessel Response Plans and Other Vessel Response Plan Requirements | 1625-AB27
317 | Commercial Fishing Vessels—Implementation of 2010 Legislation | 1625-AB85
References in boldface appear in The Regulatory Plan in part II of this issue of the Federal Register.

U.S. Coast Guard—Long-Term Actions
Sequence No. | Title | Regulation Identifier No.
318 | Marine Transportation-Related Facility Response Plans for Hazardous Substances | 1625-AA12
319 | Tank Vessel Response Plans for Hazardous Substances | 1625-AA13
320 | Inspection of Towing Vessels | 1625-AB06
321 | MARPOL Annex 1 Update | 1625-AB57

U.S. Customs and Border Protection—Final Rule Stage
Sequence No. | Title | Regulation Identifier No.
322 | Importer Security Filing and Additional Carrier Requirements | 1651-AA70

Transportation Security Administration—Proposed Rule Stage
Sequence No. | Title | Regulation Identifier No.
323 | General Aviation Security and Other Aircraft Operator Security | 1652-AA53

Transportation Security Administration—Final Rule Stage
Sequence No. | Title | Regulation Identifier No.
324 | Aircraft Repair Station Security (Reg Plan Seq No. 66) | 1652-AA38
References in boldface appear in The Regulatory Plan in part II of this issue of the Federal Register.

U.S. Immigration and Customs Enforcement—Proposed Rule Stage
Sequence No. | Title | Regulation Identifier No.
325 | Standards To Prevent, Detect and Respond to Sexual Abuse and Assault in Confinement Facilities (Section 610 Review) (Reg Plan Seq No. 68) | 1653-AA65
References in boldface appear in The Regulatory Plan in part II of this issue of the Federal Register.

DEPARTMENT OF HOMELAND SECURITY (DHS)

Office of the Secretary (OS)

Long-Term Actions

307. Ammonium Nitrate Security Program

Legal Authority: 2008 Consolidated Appropriations Act, sec 563, subtitle J—Secure Handling of Ammonium Nitrate, Pub. L. 110-161

Abstract: This rulemaking will implement the December 2007 amendment to the Homeland Security Act entitled “Secure Handling of Ammonium Nitrate.” The amendment requires the Department of Homeland Security to “regulate the sale and transfer of ammonium nitrate by an ammonium nitrate facility * * * to prevent the misappropriation or use of ammonium nitrate in an act of terrorism.”

Timetable:

Action | Date | FR Cite
ANPRM | 10/29/08 | 73 FR 64280
Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11 |
Final Rule | 12/00/13 |

Regulatory Flexibility Analysis Required: Yes.

Agency Contact: Jon MacLaren, Ammonium Nitrate Program Manager, Department of Homeland Security, Office of the Secretary, Infrastructure Security Compliance Division (NPPD/ISCD), Mail Stop 0610, 245 Murray Lane SW., Arlington, VA 20598-0610, Phone: 703 235-5263, Email: jon.m.maclaren@hq.dhs.gov.

RIN: 1601-AA52

308. Homeland Security Acquisition Regulation, Subcontractor Labor Hour Rates Under Time and Materials Contracts

Legal Authority: 5 U.S.C. 301; 5 U.S.C. 302; 41 U.S.C. 418b(a); 41 U.S.C. 418b(b); 41 U.S.C. 414; 48 CFR part 1, subpart 1.3; DHS Delegation Number 0700

Abstract: The Department of Homeland Security (DHS) is proposing to amend its Homeland Security Acquisition Regulation (HSAR) parts 3016 and 3052 to require DHS contracts for time and material or labor hours (T&M/LH) to include separate labor hour rates for subcontractors and a description of the method that will be used to record and bill for labor hours for both contractors and subcontractors.

Timetable:

Action | Date | FR Cite
NPRM | 08/21/12 | 77 FR 50449
NPRM Comment Period End | 10/22/12 |
Final Rule | To Be Determined

Regulatory Flexibility Analysis Required: Yes.

Agency Contact: Jeremy F. Olson, Senior Procurement Analyst, Department of Homeland Security, Office of the Chief Procurement Officer, Washington, DC 20528, Phone: 202 447-5197, Fax: 202 447-5310, Email: jerry.olson@hq.dhs.gov.

RIN: 1601-AA65

DEPARTMENT OF HOMELAND SECURITY (DHS)

U.S. Citizenship and Immigration Services (USCIS)

Proposed Rule Stage

309. Administrative Appeals Office: Procedural Reforms To Improve Efficiency

Legal Authority: 5 U.S.C. 552; 5 U.S.C. 552a; 8 U.S.C. 1101; 8 U.S.C. 1103; 8 U.S.C. 1304; 6 U.S.C. 112

Abstract: This proposed rule revises the requirements and procedures for the filing of motions and appeals before the Department of Homeland Security (DHS), U.S. Citizenship and Immigration Services, and its Administrative Appeals Office. The proposed changes are intended to streamline the existing processes for filing motions and appeals and will reduce delays in the review and appellate process. This rule also proposes additional changes necessitated by the establishment of DHS and its components.

Timetable:

Action | Date | FR Cite
NPRM | 04/00/13 |

Regulatory Flexibility Analysis Required: Yes.

Agency Contact: William K. Renwick, Supervisory Citizenship and Immigration Appeals Officer, Department of Homeland Security, U.S. Citizenship and Immigration Services, Administrative Appeals Office, Washington, DC 20529-2090, Phone: 703 224-4501, Email: william.k.renwick@uscis.dhs.gov.

RIN: 1615-AB98

DEPARTMENT OF HOMELAND SECURITY (DHS)

U.S. Citizenship and Immigration Services (USCIS)

Long-Term Actions

310. Registration Requirement for Petitioners Seeking To File H-1B Petitions on Behalf of Aliens Subject to Numerical Limitations

Legal Authority: 8 U.S.C. 1184(g)

Abstract: The Department of Homeland Security will finalize its regulations governing petitions filed on behalf of alien workers subject to annual numerical limitations. This rule proposes to establish an electronic registration program for petitions subject to numerical limitations for the H-1B nonimmigrant classification. This action is necessary because the demand for H-1B specialty occupation workers by U.S. companies may exceed the numerical limitation. This rule is intended to allow USCIS to more efficiently manage the intake and lottery process for these H-1B petitions.

Timetable:

Action | Date | FR Cite
NPRM | 03/03/11 | 76 FR 11686
NPRM Comment Period End | 05/02/11 |
Final Rule | To Be Determined

Regulatory Flexibility Analysis Required: Yes.

Agency Contact: Susan Arroyo, Chief of Staff, Service Center Operations, Department of Homeland Security, U.S. Citizenship and Immigration Services, 20 Massachusetts Avenue NW., Washington, DC 20529, Phone: 202 272-1094, Fax: 202 272-1543, Email: susan.k.arroyo@uscis.dhs.gov.

RIN: 1615-AB71

DEPARTMENT OF HOMELAND SECURITY (DHS)

U.S. Coast Guard (USCG)

Proposed Rule Stage

311. Numbering of Undocumented Barges

Legal Authority: 46 U.S.C. 12301

Abstract: Title 46 U.S.C. 12301, as amended by the Abandoned Barge Act of 1992, requires that all undocumented barges of more than 100 gross tons operating on the navigable waters of the United States be numbered. This rulemaking would establish a numbering system for these barges. The numbering of undocumented barges will allow identification of owners of barges found abandoned. This rulemaking supports the Coast Guard's broad role and responsibility of maritime stewardship.

Timetable:

Action | Date | FR Cite
Request for Comments | 10/18/94 | 59 FR 52646
Comment Period End | 01/17/95 |
ANPRM | 07/06/98 | 63 FR 36384
ANPRM Comment Period End | 11/03/98 |
NPRM | 01/11/01 | 66 FR 2385
NPRM Comment Period End | 04/11/01 |
NPRM Reopening of Comment Period | 08/12/04 | 69 FR 49844
NPRM Reopening Comment Period End | 11/10/04 |
Supplemental NPRM | 12/00/12 |

Regulatory Flexibility Analysis Required: Yes.

Agency Contact: Denise Harmon, Project Manager, Department of Homeland Security, U.S. Coast Guard, National Vessel Documentation Center, 792 T.J. Jackson Drive, Falling Waters, WV 25419, Phone: 304 271-2506.

RIN: 1625-AA14

312. Updates to Maritime Security

Legal Authority: 33 U.S.C. 1226; 33 U.S.C. 1231; 46 U.S.C. ch 701; 50 U.S.C. 191 and 192; EO 12656; 3 CFR 1988 Comp p 585; 33 CFR 1.05-1; 33 CFR 6.04-11; 33 CFR 6.14; 33 CFR 6.16; 33 CFR 6.19; DHS Delegation No 0170.1

Abstract: The Coast Guard proposes certain additions, changes, and amendments to 33 CFR, subchapter H. Subchapter H is comprised of parts 101 through 106. Subchapter H implements the major provisions of the Maritime Transportation Security Act of 2002. This rulemaking is the first major revision to subchapter H. The proposed changes would further the goals of domestic compliance and international cooperation by incorporating requirements from legislation implemented since the original publication of these regulations, such as the SAFE Port Act, and including international standards such as STCW security training. This rulemaking has international interest because of the close relationship between subchapter H and the International Ship and Port Security Code (ISPS).

Timetable:

Action | Date | FR Cite
NPRM | 04/00/13 |

Regulatory Flexibility Analysis Required: Yes.

Agency Contact: LCDR Loan O'Brien, Project Manager, Department of Homeland Security, U.S. Coast Guard, Commandant, (CG-FAC-2), 2100 Second Street SW., STOP 7581, Washington, DC 20593-7581, Phone: 202 372-1133, Email: loan.t.o'brien@uscg.mil.

RIN: 1625-AB38

313. Lifesaving Devices on Uninspected Vessels (Section 610 Review)

Legal Authority: Pub. L. 111-281; 33 U.S.C. 1903(b); 46 U.S.C. 3306; 46 U.S.C. 4102; 46 U.S.C. 4302; Department of Homeland Security Delegation No. 0170.1

Abstract: Section 619 of the 2010 Coast Guard Authorization Act, (Act) (Pub. L. 111-281) amends title 46, United States Code (U.S.C.) 4102(b), and directs the Coast Guard to require the installation, maintenance, and use of life preservers and other lifesaving devices for individuals on uninspected vessels. Currently, uninspected commercial barges not carrying passengers for hire do not meet this mandate. This proposed rule would fulfill that statutory mandate by changing 46 CFR 25.25 and several associated tables by removing the exemption from existing regulations for uninspected commercial barges not carrying passengers for hire and prescribe regulations requiring the installation, maintenance, and use of lifesaving devices to enhance the safety of persons working aboard these vessels.

Timetable:

Action | Date | FR Cite
NPRM | 04/00/13 |

Regulatory Flexibility Analysis Required: Undetermined.

Agency Contact: Martin L. Jackson, Project Manager, Department of Homeland Security, U.S. Coast Guard, Commandant (CG-ENG-4), 2100 2nd Street SW., STOP 7126, Washington, DC 20593-7126, Phone: 202 372-1391, Email: martin.l.jackson@uscg.mil.

RIN: 1625-AB83

DEPARTMENT OF HOMELAND SECURITY (DHS)

U.S. Coast Guard (USCG)

Final Rule Stage

314. Implementation of the 1995 Amendments to the International Convention on Standards of Training, Certification, and Watchkeeping (STCW) for Seafarers, 1978

Regulatory Plan: This entry is Seq. No. 59 in part II of this issue of the Federal Register.

RIN: 1625-AA16

315. Commercial Fishing Industry Vessels

Legal Authority: 46 U.S.C. 4502(a) to 4502(d); 46 U.S.C. 4505 and 4506; 46 U.S.C. 6104; 46 U.S.C. 10603; DHS Delegation No. 0170.1(92)

Abstract: This proposed rule would have amended commercial fishing industry vessel requirements to enhance maritime safety. Commercial fishing is one of the most dangerous industries in America. The Commercial Fishing Industry Vessel Safety Act of 1988 (the Act, codified in 46 U.S.C. chapter 45) gives the Coast Guard regulatory authority to improve the safety of vessels operating in that industry. Although significant reductions in industry deaths were recorded after the Coast Guard issued its initial rules under the Act in 1991, we believe more deaths and serious injury can be avoided through compliance with new regulations in the following areas: Vessel stability and watertight integrity, vessel maintenance and safety equipment including crew immersion suits, crew training and drills, and improved documentation of regulatory compliance. This regulatory project was opened in 2002 to consider regulatory changes to improve safety in the commercial fishing industry, which remains one of the most hazardous occupations in the United States. The Coast Guard is now intending to withdraw this rulemaking, subject to public comment on why it should remain open, in light of the 2010 adoption by Congress of new legislation that provides the Coast Guard with important new regulatory authority over commercial fishing safety. Withdrawal of this project will help the Coast Guard focus its regulatory efforts on timely regulatory implementation of its 2010 statutory authority, which will be done under a separate RIN (1625-AB85).

Timetable:

Action | Date | FR Cite
ANPRM | 03/31/08 | 73 FR 16815
ANPRM Comment Period End | 12/15/08
Notice of Withdrawal | 03/00/13

Regulatory Flexibility Analysis Required: Yes.

Agency Contact: Jack Kemerer, Project Manager, CG-5433, Department of Homeland Security, U.S. Coast Guard, 2100 Second Street SW., Washington, DC 20593, Phone: 202 372-1249, Email: jack.a.kemerer@uscg.mil.

RIN: 1625-AA77

316. Nontank Vessel Response Plans and Other Vessel Response Plan Requirements

Legal Authority: 3 U.S.C. 301 to 303; 33 U.S.C. 1223; 33 U.S.C. 1231; 33 U.S.C. 3121; 33 U.S.C. 1903; 33 U.S.C. 1908; 46 U.S.C. 6101

Abstract: This rulemaking would establish regulations requiring owners or operators of nontank vessels to prepare and submit oil spill response plans. The Federal Water Pollution Control Act defines nontank vessels as self-propelled vessels of 400 gross tons or greater that operate on the navigable waters of the United States, carry oil of any kind as fuel for main propulsion, and are not tank vessels. The NPRM proposed to specify the content of a response plan, and among other issues, address the requirement to plan for responding to a worst case discharge and a substantial threat of such a discharge. Additionally, the NPRM proposed to update International Shipboard Oil Pollution Emergency Plan (SOPEP) requirements that apply to certain nontank vessels and tank vessels. Finally, the NPRM proposed to require vessel owners and operators to submit their vessel response plan control number as part of the notice of arrival information. This project supports the Coast Guard's broad roles and responsibilities of maritime stewardship.

Timetable:

Action | Date | FR Cite
NPRM | 08/31/09 | 74 FR 44970
Public Meeting | 09/25/09 | 74 FR 48891
NPRM Comment Period End | 11/30/09
Final Rule | 04/00/13

Regulatory Flexibility Analysis Required: Yes.

Agency Contact: Mr. Timothy M. Brown, Project Manager, Office of Commercial Vessel Compliance (CG-CVC-1), Department of Homeland Security, U.S. Coast Guard, 2100 Second Street SW., Stop 7581, Washington, DC 20593-7581, Phone: 202 372-7581, Email: timothy.m.brown@uscg.mil.

RIN: 1625-AB27

317. Commercial Fishing Vessels—Implementation of 2010 Legislation

Legal Authority: Pub. L. 111-281; title VI (Marine Safety)

Abstract: The Coast Guard is implementing those requirements of a 2010 statute that pertain to uninspected commercial fishing industry vessels and that took effect upon enactment of the statute but that, to be implemented, require amendments to Coast Guard regulations affecting those vessels. The applicability of the regulations is being changed, and new requirements are being added to safety training, equipment, vessel examinations, vessel safety standards, the documentation of maintenance, and the termination of unsafe operations. This rulemaking promotes the Coast Guard strategic goal of maritime safety.

Timetable:

Action | Date | FR Cite
Interim Final Rule | 04/00/13

Regulatory Flexibility Analysis Required: Yes.

Agency Contact: Jack Kemerer, Project Manager, CG-5433, Department of Homeland Security, U.S. Coast Guard, 2100 Second Street SW., Washington, DC 20593, Phone: 202 372-1249, Email: jack.a.kemerer@uscg.mil.

RIN: 1625-AB85

DEPARTMENT OF HOMELAND SECURITY (DHS)

U.S. Coast Guard (USCG)

Long-Term Actions

318. Marine Transportation-Related Facility Response Plans for Hazardous Substances

Legal Authority: 33 U.S.C. 1321(j); Pub. L. 101-380; Pub. L. 108-293

Abstract: This project would implement provisions of the Oil Pollution Act of 1990 (OPA 90) that require an owner or operator of a marine transportation-related facility transferring bulk hazardous substances to develop and operate in accordance with an approved response plan. The regulations would apply to marine transportation-related facilities that, because of their location, could cause harm to the environment by discharging a hazardous substance into or on the navigable waters or adjoining shoreline. A separate rulemaking, under RIN 1625-AA13, was developed in tandem with this rulemaking and addresses hazardous substances response plan requirements for tank vessels. This project supports the Coast Guard's broad roles and responsibilities of maritime safety and maritime stewardship by reducing the consequence of pollution incidents. This action is considered significant because of substantial public and industry interest.

Timetable:

Action | Date | FR Cite
ANPRM | 05/03/96 | 61 FR 20084
Notice of Public Hearings | 07/03/96 | 61 FR 34775
ANPRM Comment Period End | 09/03/96
NPRM | 03/31/00 | 65 FR 17416
NPRM Comment Period End | 06/29/00
Notice To Reopen Comment Period | 02/17/11 | 76 FR 9276
Comment Period Reopen End | 05/18/11
Next Action Undetermined

Regulatory Flexibility Analysis Required: Yes.

Agency Contact: CDR Michael Roldan, Project Manager, CG-521, Department of Homeland Security, U.S. Coast Guard, 2100 Second Street SW., STOP 7126, Washington, DC 20593-7126, Phone: 202 372-1420, Email: luis.m.roldan@uscg.mil.

RIN: 1625-AA12

319. Tank Vessel Response Plans for Hazardous Substances

Legal Authority: 33 U.S.C. 1231; 33 U.S.C. 1321(j); Pub. L. 101-380; Pub. L. 108-293

Abstract: This project would implement provisions of the Oil Pollution Act of 1990 that require an owner or operator of a tank vessel carrying bulk hazardous substances to develop and submit to the Coast Guard a response plan and operate in accordance with an approved response plan. The regulations would apply to vessels operating on the navigable waters or within the Exclusive Economic Zone (EEZ) of the United States that carry bulk hazardous substances. Additionally, this project would update shipboard marine pollution emergency plans for noxious liquid substance (SMPEP-NLS) requirements that apply to certain nontank vessels and tank vessels. A separate rulemaking, under RIN 1625-AA12, would address hazardous substances response plan requirements for marine transportation-related facilities. This project supports the Coast Guard's broad roles and responsibilities of maritime safety and maritime stewardship by reducing the consequences of pollution incidents.

Timetable:

Action | Date | FR Cite
ANPRM | 05/03/96 | 61 FR 20084
Notice of Public Hearings | 07/03/96 | 61 FR 34775
ANPRM Comment Period End | 09/03/96
NPRM | 03/22/99 | 64 FR 13734
Notice of Public Hearing | 06/15/99 | 64 FR 31994
NPRM Comment Period Extended | 06/15/99
NPRM Comment Period End | 06/21/99
NPRM Extended Comment Period End | 08/30/99
Notice To Reopen Comment Period | 02/17/11 | 76 FR 9276
Comment Period End | 05/18/11
Next Action Undetermined

Regulatory Flexibility Analysis Required: Yes.

Agency Contact: Raymond Martin, Project Manager CG-5225, Department of Homeland Security, U.S. Coast Guard, 2100 Second Street SW., STOP 7126, Washington, DC 20593-7126, Phone: 202 372-1449, Email: raymond.w.martin@uscg.mil.

RIN: 1625-AA13

320. Inspection of Towing Vessels

Legal Authority: 46 U.S.C. 3103; 46 U.S.C. 3301; 46 U.S.C. 3306; 46 U.S.C. 3308; 46 U.S.C. 3316; 46 U.S.C. 3703; 46 U.S.C. 8104; 46 U.S.C. 8904; DHS Delegation No. 0170.1

Abstract: This rulemaking would implement a program of inspection for certification of towing vessels, which were previously uninspected. It would prescribe standards for safety management systems and third-party auditors and surveyors, along with standards for construction, operation, vessel systems, safety equipment, and recordkeeping.

Timetable:

Action | Date | FR Cite
NPRM | 08/11/11 | 76 FR 49976
Notice of Public Meetings | 09/09/11 | 76 FR 55847
NPRM Comment Period End | 12/09/11
Final Rule | To Be Determined

Regulatory Flexibility Analysis Required: Yes.

Agency Contact: Patrick Mannion, Project Manager, CG-5222, Department of Homeland Security, U.S. Coast Guard, 2100 Second Street SW., STOP 7126, Washington, DC 20593-7126, Phone: 202 372-1439, Email: patrick.j.mannion@uscg.mil.

RIN: 1625-AB06

321. MARPOL Annex 1 Update

Legal Authority: 33 U.S.C. 1902; 46 U.S.C. 3306

Abstract: In this rulemaking, the Coast Guard would amend the regulations in subchapter O (Pollution) of title 33 of the CFR, including regulations on vessels carrying oil, oil pollution prevention, oil transfer operations, and rules for marine environmental protection regarding oil tank vessels, to reflect changes to international oil pollution standards adopted since 2004. Additionally, this regulation would update shipping regulations in title 46 to require Material Safety Data Sheets, in accordance with international agreements, to protect the safety of mariners at sea.

Timetable:

Action | Date | FR Cite
NPRM | 04/09/12 | 77 FR 21360
NPRM Comment Period End | 07/26/12
Comment Period Extended | 09/07/12 | 77 FR 43741
Final Rule | To Be Determined

Regulatory Flexibility Analysis Required: Yes.

Agency Contact: Scott Hartley, Program Manager CG-OES-2, Department of Homeland Security, U.S. Coast Guard, 2100 Second Street SW., STOP 7126, Washington, DC 20593-7126, Phone: 202 372-1437, Email: scott.e.hartley@uscg.mil.

RIN: 1625-AB57

DEPARTMENT OF HOMELAND SECURITY (DHS)

U.S. Customs and Border Protection (USCBP)

Final Rule Stage

322. Importer Security Filing and Additional Carrier Requirements

Legal Authority: Pub. L. 109-347, sec 203; 5 U.S.C. 301; 19 U.S.C. 66; 19 U.S.C. 1431; 19 U.S.C. 1433 to 1434; 19 U.S.C. 1624; 19 U.S.C. 2071 note; 46 U.S.C. 60105

Abstract: This interim final rule implements the provisions of section 203 of the Security and Accountability for Every Port Act of 2006. It amended CBP Regulations to require carriers and importers to provide to CBP, via a CBP-approved electronic data interchange system, information necessary to enable CBP to identify high-risk shipments to prevent smuggling and insure cargo safety and security. Under the rule, importers and carriers must submit specified information to CBP before the cargo is brought into the United States by vessel. This advance information improves CBP's risk assessment and targeting capabilities, assists CBP in increasing the security of the global trading system, and facilitates the prompt release of legitimate cargo following its arrival in the United States. The interim final rule requested comments on those required data elements for which CBP provided certain flexibilities for compliance and on the revised costs and benefits and Regulatory Flexibility Analysis. CBP plans to issue a final rule after CBP completes a structured review of the flexibilities and analyzes the comments.

Timetable:

Action | Date | FR Cite
NPRM | 01/02/08 | 73 FR 90
NPRM Comment Period End | 03/03/08
NPRM Comment Period Extended | 02/01/08 | 73 FR 6061
NPRM Comment Period End | 03/18/08
Interim Final Rule | 11/25/08 | 73 FR 71730
Interim Final Rule Effective | 01/26/09
Interim Final Rule Comment Period End | 06/01/09
Correction | 07/14/09 | 74 FR 33920
Correction | 12/24/09 | 74 FR 68376
Final Action | 02/00/13

Regulatory Flexibility Analysis Required: Yes.

Agency Contact: Craig Clark, Program Manager, Vessel Manifest & Importer Security Filing, Office of Cargo and Conveyance Security, Department of Homeland Security, U.S. Customs and Border Protection, 1300 Pennsylvania Avenue NW., Washington, DC 20229, Phone: 202 344-3052, Email: craig.clark@cbp.dhs.gov.

RIN: 1651-AA70

DEPARTMENT OF HOMELAND SECURITY (DHS)

Transportation Security Administration (TSA)

Proposed Rule Stage

323. General Aviation Security and Other Aircraft Operator Security

Legal Authority: 6 U.S.C. 469; 18 U.S.C. 842; 18 U.S.C. 845; 46 U.S.C. 70102 to 70106; 46 U.S.C. 70117; 49 U.S.C. 114; 49 U.S.C. 114(f)(3); 49 U.S.C. 5103; 49 U.S.C. 5103a; 49 U.S.C. 40113; 49 U.S.C. 44901 to 44907; 49 U.S.C. 44913 to 44914; 49 U.S.C. 44916 to 44918; 49 U.S.C. 44932; 49 U.S.C. 44935 to 44936; 49 U.S.C. 44942; 49 U.S.C. 46105

Abstract: On October 30, 2008 (73 FR 64790), the Transportation Security Administration (TSA) issued a Notice of Proposed Rulemaking (NPRM), proposing to amend current aviation transportation security regulations to enhance the security of general aviation by expanding the scope of current requirements, and by adding new requirements for certain large aircraft operators and airports serving those aircraft.

TSA also proposed that all aircraft operations, including corporate and private charter operations, with aircraft having a maximum certificated takeoff weight (MTOW) above 12,500 pounds (large aircraft) be required to adopt a large aircraft security program. TSA also proposed to require certain airports that serve large aircraft to adopt security programs.

After considering comments received on the NPRM and sponsoring public meetings with stakeholders, TSA decided to revise the original proposal to tailor security requirements to the general aviation industry. TSA is preparing a supplemental NPRM (SNPRM), which will include a comment period for public comments. TSA is considering the following proposed provisions in the SNPRM: (1) The type of aircraft subject to TSA regulation; (2) compliance oversight; (3) watch list matching of passengers; (4) prohibited items; (5) scope of the background check requirements and the procedures used to implement the requirement; and (6) other issues. Additionally, in the SNPRM, TSA plans to propose security measures for foreign aircraft operators commensurate with measures for U.S. operators.

Timetable:

Action | Date | FR Cite
NPRM | 10/30/08 | 73 FR 64790
NPRM Comment Period End | 12/29/08
Notice—NPRM Comment Period Extended | 11/25/08 | 73 FR 71590
NPRM Extended Comment Period End | 02/27/09
Notice—Public Meetings; Requests for Comments | 12/18/08 | 73 FR 77045
Supplemental NPRM | 08/00/13

Regulatory Flexibility Analysis Required: Yes.

Agency Contact: Kerwin Wilson, Acting Assistant General Manager, General Aviation Security, Department of Homeland Security, Transportation Security Administration, Office of Security Policy and Industry Engagement, TSA-28, HQ, E, 601 South 12th Street, Arlington, VA 20598-6028, Phone: 571 227-3788, Email: kerwin.wilson@tsa.dhs.gov.

Dominick S. Caridi, Director, Regulatory and Economic Analysis, Department of Homeland Security, Transportation Security Administration, Office of Security Policy and Industry Engagement, TSA-28, HQ, E10-419N, 601 South 12th Street, Arlington, VA 20598-6028, Phone: 571 227-2952, Fax: 703 603-0404, Email: dominick.caridi@tsa.dhs.gov.

Denise Daniels, Attorney, Regulations and Security Standards Division, Department of Homeland Security, Transportation Security Administration, Office of the Chief Counsel, TSA-2, HQ, E12-127S, 601 South 12th Street, Arlington, VA 20598-6002, Phone: 571 227-3443, Fax: 571 227-1381, Email: denise.daniels@tsa.dhs.gov.

RIN: 1652-AA53

DEPARTMENT OF HOMELAND SECURITY (DHS)

Transportation Security Administration (TSA)

Final Rule Stage

324. Aircraft Repair Station Security

Regulatory Plan: This entry is Seq. No. 66 in part II of this issue of the Federal Register.

RIN: 1652-AA38

DEPARTMENT OF HOMELAND SECURITY (DHS)

U.S. Immigration and Customs Enforcement (USICE)

Proposed Rule Stage

325. • Standards To Prevent, Detect and Respond to Sexual Abuse and Assault in Confinement Facilities (Section 610 Review)

Regulatory Plan: This entry is Seq. No. 68 in part II of this issue of the Federal Register.

RIN: 1653-AA65

[FR Doc. 2012-31672 Filed 1-7-13; 8:45 am]

BILLING CODE 9110-9B-P